DEPARTMENT OF LABOR

Employment and Training Administration

[TA-W-75,067; TA-W-75,076A]

JLG Industries, Inc., Access Segment, a Subsidiary of Oshkosh Corporation, Including On-Site Leased Workers From Aerotek, McConnellsburg, PA; JLG Industries, Inc., Access Division, a Subsidiary of Oshkosh Corporation, Hagerstown, MD; Amended Certification Regarding Eligibility To Apply for Worker Adjustment Assistance

In accordance with Section 223 of the Trade Act of 1974, as amended (“Act”), 19 U.S.C. 2273, the Department of Labor issued a Certification of Eligibility to Apply for Worker Adjustment Assistance on March 9, 2011, applicable to workers and former workers of JLG Industries, Inc., Access Segment, a subsidiary of Oshkosh Corporation, including on-site leased workers of Aerotek, McConnellsburg, Pennsylvania (JLG-McConnellsburg). The workers produce access equipment. The Department's Notice was published in the Federal Register on March 23, 2011 (76 FR 16449).

At the request of a worker separated from the Hagerstown, Maryland facility, the Department reviewed the certification for workers of JLG-McConnellsburg.

New information supplied by the workers and confirmed by JLG Industries, Inc. revealed that the Hagerstown, Maryland facility operated in conjunction with JLG-McConnellsburg in the production of access equipment and supplied design engineering, global procurement supply chain, safety, and reliability services used in the production of equipment at JLG-McConnellsburg.

Based on these findings, the Department is amending this certification to properly reflect these matters.

The amended notice applicable to TA-W-75,067 is hereby issued as follows:

All workers of JLG Industries, Inc., Access Segment, a subsidiary of Oshkosh Corporation, including on-site leased workers from Aerotek, McConnellsburg, Pennsylvania (TA-W-75,067) and JLG Industries, Inc., Access Division, a subsidiary of Oshkosh Corporation, Hagerstown, Maryland (TA-W-75,067A), who became totally or partially separated from employment on or after January 3, 2011, through March 9, 2013, and all workers in the group threatened with total or partial separation from employment on March 9, 2011 through March 9, 2013, are eligible to apply for adjustment assistance under Chapter 2 of Title II of the Trade Act of 1974, as amended.

Signed at Washington, DC, this 11th day of July 2011.
Del Min Amy Chen,
Certifying Officer, Office of Trade Adjustment Assistance.

[FR Doc. 2011-18239 Filed 7-19-11; 8:45 am]

BILLING CODE 4510-FN-P